DEPARTMENT OF LABOR

Occupational Safety and Health Administration

29 CFR Part 1910

[Docket No. OSHA-2020-0004]

RIN 1218-AD36

Occupational Exposure to COVID-19; Emergency Temporary Standard

AGENCY: Occupational Safety and Health Administration (OSHA), Department of Labor.

ACTION: Interim final rule; extension of comment period.

SUMMARY: The period for submitting public comments is being extended by 30 days to allow stakeholders interested in the emergency temporary standard (ETS) additional time to review the ETS and collect information and data necessary for comment.

DATES: The comment period for the interim final rule (ETS) that was published June 21, 2021, at 86 FR 32376, effective June 21, 2021, is extended. Comments on any aspect of the ETS and whether the ETS should be adopted as a permanent standard must be submitted by August 20, 2021.

ADDRESSES:

Written comments: You may submit comments and attachments, identified by Docket No. OSHA-2020-0004, electronically at www.regulations.gov, which is the Federal e-Rulemaking Portal. Follow the online instructions for making electronic submissions.

Instructions: All submissions must include the agency's name and the docket number for this rulemaking (Docket No. OSHA-2020-0004). All comments, including any personal information you provide, are placed in the public docket without change and may be made available online at www.regulations.gov. Therefore, OSHA cautions commenters about submitting information they do not want made available to the public or submitting materials that contain personal information (either about themselves or others), such as Social Security Numbers and birthdates.

Docket: To read or download comments or other material in the docket, go to Docket No. OSHA-2020-0004 at www.regulations.gov. All comments and submissions are listed in the www.regulations.gov index; however, some information (e.g., copyrighted material) is not publicly available to read or download through that website. All comments and submissions, including copyrighted material, are available for inspection through the OSHA Docket Office. Documents submitted to the docket by OSHA or stakeholders are assigned document identification numbers (Document ID) for easy identification and retrieval. The full Document ID is the docket number (OSHA-2020-0004) plus a unique four-digit code (e.g., OSHA-2020-0004-1033). When citing materials in the docket, OSHA includes the term “Document ID” followed by the last four digits of the Document ID number (e.g., Document ID 1033). Document ID numbers are used to identify docket materials in this notice. However, OSHA identified supporting information in the ETS (86 FR 32376) by author name and publication year, when appropriate. The agency has also provided a spreadsheet in the docket that identifies the full Document ID for each reference cited in the ETS (see Document ID 1042). This information can be used to search for a supporting document in the docket at http://www.regulations.gov. Contact the OSHA Docket Office at 202-693-2350 (TTY number: 877-889-5627) for assistance in locating docket submissions.

FOR FURTHER INFORMATION CONTACT:

General information and press inquiries: Contact Frank Meilinger, Director, Office of Communications, U.S. Department of Labor; telephone (202) 693-1999; email meilinger.francis2@dol.gov.

For technical inquiries: Contact Andrew Levinson, Directorate of Standards and Guidance, U.S. Department of Labor; telephone (202) 693-1950.

SUPPLEMENTARY INFORMATION: On June 21, 2021, OSHA issued an ETS to protect healthcare and healthcare support service workers from occupational exposure to COVID-19 in settings where people with COVID-19 are reasonably expected to be present.

The public comment period for the ETS was to close on July 21, 2021, 30 days after publication of the ETS. However, OSHA received requests from several stakeholders to extend the comment period by an additional 30 days, through August 20, 2021 (Document ID 1078; 1079; 1080; 1082; 1083; 1086; 1088; 1089). These stakeholders explained that they need additional time to thoroughly review the ETS, gather input from members, and prepare informed comments (see, e.g., Document ID 1078; 1079; 1080; 1082; 1083; 1086; 1087; 1088; 1089).

OSHA agrees to an extension and believes a 30-day extension of the public comment period is sufficient and appropriate in order to address these stakeholder requests. Therefore, the public comment period will be extended until August 20, 2021.

Authority and Signature

James S. Frederick, Acting Assistant Secretary of Labor for Occupational Safety and Health, U.S. Department of Labor, 200 Constitution Avenue NW, Washington, DC 20210, authorized the preparation of this document pursuant to the following authorities: Sections 4, 6, and 8 of the Occupational Safety and Health Act of 1970 (29 U.S.C. 653, 655, 657); Secretary of Labor's Order 8-2020 (85 FR 58393 (Sept. 18, 2020)); 29 CFR part 1911; and 5 U.S.C. 553.

Signed at Washington, DC, on July 12, 2021.
James S. Frederick,
Acting Assistant Secretary of Labor for Occupational Safety and Health.

[FR Doc. 2021-15326 Filed 7-19-21; 8:45 am]

BILLING CODE 4510-26-P